DEPARTMENT OF TRANSPORTATION

Federal Aviation Administration

14 CFR Part 39

[Docket No. FAA-2010-1307; Directorate Identifier 2010-NM-049-AD; Amendment 39-16671; AD 2011-09-09]

RIN 2120-AA64

Airworthiness Directives; Bombardier, Inc. Model CL-600-2A12 (CL-601) and CL-600-2B16 (CL-601-3A, CL-601-3R, and CL-604 Variants) Airplanes

Correction

In rule document 2011-17402 appearing on page 41653-41657, in the issue of Friday, July 15, 2011, make the following correction:

39—AIRWORTHINESS DIRECTIVES

§ 39.13 [Corrected]

On page 41655, in the second table, Table 2—Initial Compliance Times for Airworthiness Limitations Tasks, a fourth column title was inadvertently printed above the words “Within 240 Flight hours after the effective date of this AD.” The table should appear as set forth below.

Table 2—Initial Compliance Times for Airworthiness Limitations Tasks
Bombardier, Inc. model— | Task(s)— | Initial compliance time (whichever occurs later)—
CL-600-2A12 (CL-601) airplanes, serial numbers 3001 through 3066 inclusive; and CL-600-2B16 (CL-601-3A and CL-601-3R Variants) airplanes, serial numbers 5001 through 5194 inclusive; on which Bombardier Service Bulletin 601-0590 has been accomplished | 30-11-00-101, Wing Anti-icing | Prior to the accumulation of 4,800 total flight hours; or within 4,800 flight hours after accomplishing Task 30-11-06-204 in Section 5-20-15 of the applicable Time Limits/Maintenance Checks manual specified in table 1 of this AD; whichever occurs later | Within 240 flight hours after the effective date of this AD.
CL-600-2A12 (CL-601) airplanes, serial numbers 3001 through 3066 inclusive; and CL-600-2B16 (CL-601-3A and CL-601-3R Variants) airplanes, serial numbers 5001 through 5194 inclusive; on which Bombardier Service Bulletin 601-0590 has been accomplished | 30-11-00-102, Wing Anti-icing | Prior to the accumulation of 4,800 total flight hours; or within 4,800 flight hours after accomplishing Task 30-13-00-205 in Section 5-20-15 of the applicable Time Limits/Maintenance Checks manual specified in table 1 of this AD; whichever occurs later | Within 240 flight hours after the effective date of this AD.
CL-600-2B16 (CL-604 Variants) airplanes, serial numbers 5301 through 5665 inclusive | 30-11-00-101, Detailed Inspection of the Wing Anti-Ice Duct Piccolo-Tube, and 36-21-00-101, Functional Test of the Leading Edge Thermal Switches | Prior to the accumulation of 6,400 total flight hours; except for airplanes having 6,400 total flight hours or more as of the effective date of this AD on which the task has not been accomplished: prior to the next scheduled 6,400 flight hour task inspection or prior to the next scheduled accomplishment of Task 57-10-00-208 in the applicable Time Limits/Maintenance Checks manual specified in table 1 of this AD, whichever occurs first | Within 320 flight hours after the effective date of this AD.
CL-600-2B16 (CL-604 Variants) airplanes, serial numbers 5701 and subsequent | 30-11-00-101, Detailed Inspection of the Wing Anti-Ice Duct Piccolo-Tube, and 36-21-00-101, Functional Test of the Leading Edge Thermal Switches | Prior to the accumulation of 6,400 total flight hours | Within 320 flight hours after the effective date of this AD.

[FR Doc. C1-2011-17402 Filed 7-28-11; 8:45 am]

BILLING CODE 1505-01-D